DEPARTMENT OF HOUSING AND URBAN DEVELOPMENT

[Docket No. FR-6381-N-02]

Improving Access to Public Benefit Programs; Request for Comment: Extension of Public Comment Period

AGENCY: Office of Policy Development and Research, Department of Housing and Urban Development, HUD.

ACTION: Request for comments; extension of public comment period.

SUMMARY: On July 13, 2023, the Department of Housing and Urban Development published in the Federal Register a document titled “Improving Access to Public Benefit Programs; Request for Comment.” The request for comment seeks comments from the public regarding the burden faced when applying for or maintaining eligibility for HUD's housing programs. HUD recognizes that these administrative hurdles and paperwork burdens disproportionately fall on the most vulnerable populations and prevent individuals and entities from accessing benefits for which they are legally eligible. The request for comment provided for a 30-day comment period, which would have ended on August 14, 2023. HUD has determined that a 30-day extension of the comment period, until September 13, 2023, is appropriate to allow interested persons additional time to provide responses. Public comment submitted in response to the request for comment will assist HUD in better understanding, identifying, and reducing HUD's public program administrative burden and ultimately further its mission to pursue transformative housing and community-building policies and programs.

DATES: The comment period for the request for comment published on July 13, 2023, at 88 FR 44813, is extended to September 13, 2023.

ADDRESSES: Interested persons are invited to submit comments responsive to the request for comment. There are three methods for submitting public comments. All submissions must refer to the above docket number and title.

1. Electronic Submission of Comments. Comments may be submitted electronically through the Federal eRulemaking Portal at www.regulations.gov. HUD strongly encourages commenters to submit comments electronically through www.regulations.gov. Electronic submission of comments allows the commenter maximum time to prepare and submit a comment, ensures timely receipt by HUD, and enables HUD to make comments immediately available to the public. Comments submitted electronically through www.regulations.gov can be viewed by other commenters and interested members of the public. Commenters should follow the instructions provided on that website to submit comments electronically.

2. Submission of Comments by Mail. Comments may be submitted by mail to the Regulations Division, Office of General Counsel, Department of Housing and Urban Development, 451 7th Street SW, Room 10276, Washington, DC 20410-0500.

3. Submission of Comments by Electronic Mail. Comments may be submitted by electronic mail to the Regulations Division, Office of General Counsel, Department of Housing and Urban Development at improvingaccesstopublicbenefitprograms@hud.gov.

Note: To receive consideration as a public comment, comments must be submitted through one of the three methods specified above.

Public Inspection of Public Comments. Copies of all comments submitted will be available for inspection and downloading at www.regulations.gov. HUD will also make all properly submitted comments and communications available for public inspection and copying during regular business hours at the above address. Due to security measures at the HUD Headquarters building, you must schedule an appointment in advance to review the public comments by calling the Regulations Division at 202-708-3055 (this is not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Todd Richardson, General Deputy Assistant Secretary, Office of Policy Development and Research, Department of Housing and Urban Development, 451 7th Street SW, Room 8100, Washington, DC 20410, telephone 202-402-5706 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: Applying for and maintaining eligibility for public benefits and services, including housing programs, often requires completing and submitting a variety of forms. HUD and its housing partners that administer its programs use the information collected by these forms to determine whether applicants are eligible or if current recipients continue to be eligible. These forms and other methods of information collections may create burdens that disproportionately fall on the most vulnerable populations and prevent individuals and entities from accessing services for which they are legally eligible. These burdens include the expenditure of time, effort, or financial resources to generate, maintain, or provide information to HUD or its housing partners.

HUD's overarching goal is to pursue transformative housing and community-building policy and programs. To accomplish this goal and continue its efforts to reduce administrative burden, improve the customer experience for individuals seeking and receiving HUD services, and actively solicit input of program beneficiaries, on July 13, 2023, HUD published in the Federal Register a document titled “Improving Access to Public Benefit Programs; Request for Comment.” The request for comment solicits public comment to better understand, identify, and reduce the public program administrative burdens imposed through HUD's forms and other information collections related to HUD programs that are experienced by members of the public who are entitled to benefits through one or more HUD public benefits programs.

While the request for comment originally provided for a 30-day comment period, HUD has determined that extending the public comment period by an additional 30 days will better allow the public to submit comments that will assist HUD in better understanding, identifying, and reducing HUD's public program administrative burden and ultimately further its mission to pursue transformative housing and community-building policies and programs. Therefore, HUD is extending the due date for public comment until September 13, 2023.

Aaron Santa Anna,
Associate General Counsel for Legislation and Regulations.

[FR Doc. 2023-17502 Filed 8-10-23; 4:15 pm]

BILLING CODE 4210-67-P